POSTAL SERVICE

39 CFR Part 111

Address Sequencing Service

AGENCY: Postal Service.

ACTION: Final rule.

SUMMARY: This final rule amends section 507.7 of the Mailing Standards of the United States Postal Service, Domestic Mail Manual (DMM®) to streamline the seed address process. It adopts a proposed rule that was published in the Federal Register (69 FR 64877, November 9, 2004.).

DATES: This rule is effective June 24, 2005.

FOR FURTHER INFORMATION CONTACT: Becky Dunn, National Customer Support Center, United States Postal Service, 800-238-3150.

SUPPLEMENTARY INFORMATION: On November 9, 2004, the Postal Service published in the Federal Register a proposed rule to amend section A920 of the Domestic Mail Manual (69 FR 64877). The Postal Service has since published a final rule in the Federal Register announcing that it has adopted Mailing Standards of the United States Postal Service, Domestic Mail Manual (DMM), which redesigned and renamed Domestic Mail Manual, Issue 58 (70 FR 14534, March 23, 2005). The redesigned DMM has required that this final rule be renumbered to conform to the new numbering of the Mailing Standards of the United States Postal Service, Domestic Mail Manual. Former section A920 of the Domestic Mail Manual is now section 507.7 of the Mailing Standards of the United States Postal Service, Domestic Mail Manual. The Postal Service received eight comments on its proposed rule to amend former section A920 of the Domestic Mail Manual. Six comments fully supported the proposed changes. Two comments raised concerns.

One comment expressed concern that the Postal Service would disclose a mailer's confidential information contained in the Processing Acknowledgment Form (PAF) that mailers submit. The PAF requires a mailer to disclose the method by which it develops an address list if the mailer states that it did not obtain that address list from a Computerized Delivery Sequence (CDS) subscriber.

The comment expressed concerns that CDS subscribers who permit intermediaries to “rent” their lists to mailers must be held responsible for the actions of these intermediaries. In addition, when the Postal Service locates a seed in an address list, and notifies both the CDS subscriber who owns the seed and the mailer who submitted the list, the parties may not be able to reach a resolution.

The second comment expressed the concern that a mailer who acquires another business that does not sell its lists may not have records on how the business created its lists, particularly if the lists were developed over a period of many years. Thus, the mailer may not be able to furnish information requested on the PAF. Also, some mailers may not have maintained records on how they created address lists.

After considering the concerns, the Postal Service determined not to change the text of its proposed changes based on the following:

(1) The Postal Service does not share with the public information concerning the methodology and source information provided on the PAF.

(2) A mailer who submits an address list containing a CDS subscriber's seed has many avenues available to it to resolve the differences concerning the use of the address list. The PAF requires the intermediary who “rents” a list to a mailer on behalf of a seed owner to provide the mailer with documentation establishing the mailer's right to use an address list. The Postal Service anticipates that this measure will reduce the occurrence of innocent mis-use of seed addresses, and will assist CDS subscribers in tracking use of their address lists.

(3) An increase in the number of seed addresses provided to CDS customers should prevent the innocent appearance of a seed address disqualifying a mailer. For example, if a list contains only one seed address when the CDS subscriber owns several seed addresses for a ZIP Code ™, the appearance of just one of several seed addresses could be used to support the mailer s argument that the use of the seed address was innocent.

(4) The Postal Service believes that it is reasonable to ask mailers submitting lists for CDS qualification to maintain records of where it obtained addresses when building address lists. The Postal Service understands that this is a new requirement, and will consider a mailer's inability to set forth how it created an address list on a case-by-case basis.

For the reasons discussed above, the Postal Service hereby adopts the following amendments to the Mailing Standards of the United States Postal Service, Domestic Mail Manual, which is incorporated by reference in the Code of Federal Regulations.

List of Subjects in 39 CFR Part 111

Administrative practice and procedure, Postal Service.

PART 111—[AMENDED]

1. The authority citation for 39 CFR Part 111 continues to read as follows:

Authority: 5 U.S.C. 552(a); 39 U.S.C. 101, 401, 403, 404, 414, 416, 3001-3011, 3201-3219, 3403-3406, 3621, 3626, 5001.

2. Amend the following sections of the Mailing Standards of the United States Postal Service, Domestic Mail Manual as set forth below:

Mailing Standards of the United States Postal Service, Domestic Mail Manual (DMM)

* * * * *

500 Additional Services

* * * * *

507 Mailer Services

* * * * *

7.0 ADDRESS SEQUENCING SERVICES

* * * * *

7.2 Service Levels

* * * * *

[Revise 7.2d and 7.2e to read as follows:]

d. Mailers who have obtained address sequencing services described in 7.2.c. above and in 7.5.1 for address lists, and who have a current Computerized Delivery Sequence (CDS) subscription, may apply to USPS to obtain seed addresses to include in their address lists. Qualified CDS subscribers may elect to include a seed address in an address file for identifying the list and detecting the use of the address list by another mailer.

e. If the mailer has obtained an address list from another party, and USPS locates a seed address when processing that address list for Level 3 Service, USPS will notify both the mailer who submitted the address list as well as the CDS subscriber to whom USPS has assigned the seed address. USPS will provide the CDS subscriber with the identity of the mailer, and will provide the mailer with the identity of the CDS subscriber. USPS will not release to the mailer those portions of the address list for the ZIP Codes containing the seed address, unless USPS receives written authorization to do so from the CDS subscriber if the mailer has obtained the address list from the CDS subscriber or a party acting on behalf of the CDS subscriber. USPS will only release those portions of the address list for ZIP Codes not containing seed addresses if the mailer meets the address sequencing requirements.

7.3 Card Preparation and Submission

* * * * *

[Revise 7.3.2 to read as follows:]

7.3.2 Limitations

The mailer is required to remit all fees to USPS for address sequencing service performed by USPS, including service for which USPS does not release to the mailer a ZIP Code containing a seed address. (See 507.7.6 below.) The following apply:

a. In order to obtain Level 3 Service, the mailer must submit address cards or an address file (address list) that contains at least ninety percent (90%), but not more than one hundred ten percent (110%) of all possible delivery addresses for a specific 5-digit ZIP Code delivery area.

b. If a mailer requests Level 3 Service for an address list and fails to meet any USPS address sequencing requirements for a ZIP Code within that address list, the mailer may resubmit the address list for Level 3 Service for the 5-digit ZIP Code that fails to meet USPS requirements. In the event the mailer fails to meet all USPS address sequencing requirements for the 5-digit ZIP Code on the third time it submits the address list to USPS, USPS will not accept the address list for that 5-digit ZIP Code for a period of 1 year from the date the mailer submits the list to USPS for the third time.

An appropriate amendment to 39 CFR Part 111 will be published to reflect these changes.

Neva R. Watson,
Attorney, Legislative.

[FR Doc. 05-10386 Filed 5-24-05; 8:45 am]

BILLING CODE 7710-12-U